DEPARTMENT OF ENERGY

Federal Energy Regulatory Commission

[Docket No. EL16-54-000]

Lakewood Cogeneration, L.P.; Essential Power Rock Springs, LLC; Essential Power OPP, LLC; Notice of Institution of Section 206 Proceeding and Refund Effective Date

On April 28, 2016, the Commission issued an order in Docket No. EL16-54-000, pursuant to section 206 of the Federal Power Act (FPA), 16 U.S.C. 824e (2012), instituting an investigation into the justness and reasonableness of the individual reactive power rates of Lakewood Cogeneration, L.P., Essential Power Rock Springs, LLC, and Essential Power OPP, LLC. Lakewood Cogeneration, L.P., 155 FERC ¶ 61,109 (2016).

The refund effective date in Docket No. EL16-54-000, established pursuant to section 206(b) of the FPA, will be the date of publication of this notice in the Federal Register.

Dated: April 29, 2016.
Kimberly D. Bose,
Secretary.

[FR Doc. 2016-10676 Filed 5-5-16; 8:45 am]

BILLING CODE 6717-01-P